DEPARTMENT OF TRANSPORTATION

Federal Railroad Administration

[Docket Number FRA-2010-0056]

Petition for Positive Train Control Safety Plan Approval and System Certification of the Electronic Train Management System

In accordance with Part 211 of Title 49 Code of Federal Regulations (CFR), this document provides the public notice that by a document dated November 5, 2012, BNSF Railway (BNSF) has petitioned the Federal Railroad Administration (FRA) for Positive Train Control (PTC) Safety Plan (PTCSP) approval and system certification of the Electronic Train Management System (ETMS) as required by 49 U.S.C. 20157(h) and in accordance with 49 CFR 236.1015(a). FRA assigned the petition Docket Number FRA-2010-0056.

Applicant: Mr. David J. Galassi, Assistant Vice President-Network Control Systems, BNSF Railway, P.O. Box 961034, Fort Worth, TX 76161.

BNSF seeks PTCSP approval and system certification of ETMS Version 7.0, for use over the entire BNSF railroad network. ETMS Version 7.0 is a non-vital processor-based train control system safety overlay designed to protect against the consequences of train-to-train collisions, enforce compliance with civil and temporary speed limits, provide for the safety of roadway workers operating within the limits of their authority, and to protect against the movement of trains through switches not properly lined for the intended movement.

ETMS Version 7.0 is the technical successor to earlier versions of ETMS, approved by FRA under the provisions of 49 CFR Part 236, Subpart H-Standards for Processor-Based Signal and Train Control Systems (Docket Number FRA-2006-23687). BNSF asserts that the PTCSP contains the information required by 49 CFR 236.1015(d) and that the PTCSP:

1. Demonstrates that ETMS Version 7.0 reliably executes the functions set forth in 49 CFR 236.1005.

2. Demonstrates that the use of ETMS Version 7.0 obtains at least an 80-percent reduction of the risk associated with accidents preventable by the functions set forth in 49 CFR 236.1005, when all effects of the change associated with the PTC system are taken into account.

BNSF believes that approval and certification of ETMS Version 7.0 will enhance railroad safety by allowing the deployment and use in revenue service of ETMS to prevent or mitigate the consequences of a loss of situational awareness by train crews, or other conditions, that could otherwise result in catastrophic consequences to the train crew and the general public.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by February 6, 2013 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on January 2, 2013.
Robert C. Lauby,
Deputy Associate Administrator for Regulatory and Legislative Operations.

[FR Doc. 2013-00095 Filed 1-4-13; 8:45 am]

BILLING CODE 4910-06-P